DEPARTMENT OF HOMELAND SECURITY

Transportation Security Administration

[Docket No. TSA-2009-0024]

Enforcement Actions Summary

AGENCY: Transportation Security Administration, DHS.

ACTION: Notice of availability.

SUMMARY: TSA is providing notice that it has issued an annual summary of all enforcement actions taken by TSA under the authority granted in the Implementing Recommendations of the 9/11 Commission Act of 2007.

FOR FURTHER INFORMATION CONTACT: Nikki Harding, Assistant Chief Counsel, Civil Enforcement, Office of the Chief Counsel, TSA-2, Transportation Security Administration, 6595 Springfield Center Drive, Springfield, VA 20598-6002; telephone (571) 227-4777; facsimile (571) 227-1378; email nikki.harding@tsa.dhs.gov.

SUPPLEMENTARY INFORMATION:

Background

On August 3, 2007, section 1302(a) of the Implementing Recommendations of the 9/11 Commission Act of 2007 (the 9/11 Act), Public Law 110-53, 121 Stat. 392, gave TSA authority to assess civil penalties for violations of any surface transportation requirements under title 49 of the United States Code (U.S.C.) and for any violations of chapter 701 of title 46 of the U.S.C., which governs transportation worker identification credentials (TWICs).

Section 1302(a) of the 9/11 Act, codified at 49 U.S.C. 114(u),¹ authorizes the Secretary of Homeland Security to impose civil penalties of up to $10,000 per violation of any surface transportation requirement under 49 U.S.C. or any requirement related to TWICs under 46 U.S.C. chapter 701. TSA exercises this function under delegated authority from the Secretary. See DHS Delegation No. 7060-2.

¹ Pursuant to division K, title I, sec. 1904(b)(1)(I), of Public Law 115-254, (132 Stat. 3186, 3545; October 5, 2018), the TSA Modernization Act—part of the FAA Reauthorization Act of 2018, former 49 U.S.C. 114(v) was redesignated as 49 U.S.C. 114(u).

Under 49 U.S.C. 114(u)(7)(A), TSA is required to provide the public with an annual summary of all enforcement actions taken by TSA under this subsection; and include in each such summary the identifying information of each enforcement action, the type of alleged violation, the penalty or penalties proposed, and the final assessment amount of each penalty. This summary is for calendar year 2020. TSA will publish a summary of all enforcement actions taken under the statute in the beginning of the new calendar year to cover the previous calendar year.

Document Availability

You can get an electronic copy of both this notice and the enforcement actions summary on the internet by—

(1) Searching the electronic Federal Docket Management System (FDMS) web page at http://www.regulations.gov, Docket No. TSA-2009-0024; or

(2) Accessing the Government Printing Office's web page at http://www.gpo.gov/fdsys/browse/collection.action?collectionCode=FR to view the daily published Federal Register edition; or accessing the “Search the Federal Register by Citation” in the “Related Resources” column on the left, if you need to do a Simple or Advanced search for information, such as a type of document that crosses multiple agencies or dates.

In addition, copies are available by writing or calling the individual in the FOR FURTHER INFORMATION CONTACT section. Make sure to identify the docket number of this action.

Dated: December 2, 2021.
Kelly D. Wheaton,
Deputy Chief Counsel, Enforcement and Incident Management.

December 2, 2021

Annual Summary of Enforcement Actions Taken Under 49 U.S.C. 114(u)

Annual Report

Pursuant to 49 U.S.C. 114(u)(7)(A), TSA provides the following summary of enforcement actions taken by TSA in calendar year 2020 under section 114(u).²

² 49 U.S.C. 114(u)(7)(A) states: In general.—the Secretary of Homeland Security shall—(i) provide an annual summary to the public of all enforcement actions taken by the Secretary under this subsection; and (ii) include in each such summary the docket number of each enforcement action, the type of alleged violation, the penalty or penalties proposed, and the final assessment amount of each penalty.

Background

Section 114(u) of 49 U.S.C. gives the TSA authority to assess civil penalties for violations of any surface transportation requirements under 49 U.S.C. and for any violations of chapter 701 of 46 U.S.C., which governs TWICs. Specifically, section 114(u) authorizes the Secretary of Homeland Security to impose civil penalties of up to $10,000 per violation ³ for violations of any surface transportation requirement under 49 U.S.C. or any requirement related to TWIC under 46 U.S.C. chapter 701.⁴

³ Pursuant to title VII, sec. 701 of Public Law 114-74 (129 Stat. 583, 599; Nov. 2, 2015), the Federal Civil Penalties Inflation Adjustment Act Improvements Act of 2015—part of the Bipartisan Budget Act of 2015, this $10,000 civil penalty maximum is adjusted for inflation annually. See 49 CFR 1503.401(b).

⁴ TSA exercises this function under delegated authority from the Secretary. See DHS Delegation No. 7060-2.

⁵ On March 23, 2020, TSA promulgated a final rule which, among other things, reorganized Title 49 Chapter XII Subpart D, Maritime and Surface Transportation Security. For example, the regulation 49 CFR 1570.7, pertaining to fraudulent use and manufacture of credentials, is now located at 49 CFR 1570.301. This report cites to the regulatory violations as alleged in TSA's enforcement actions at the time of issuance.

TSA case No. | Type of violation ⁵ | Penalty proposed/assessed
2019SAN0156 | Fraud/Falsification (49 CFR 1570.5(b)) | $1,000/$1,000.
2021SLC0056 | Security Coordinator (49 CFR 1570.201(d)(e) | None (Notice of Noncompliance).
2021JAX0030 | TWIC Access Control (49 CFR 1570.301(c)) | None (Warning Notice).
2021MSP0003 | TWIC Access Control (49 CFR 1570.301(c)) | None (Warning Notice).
2021SAN0007 | TWIC Access Control (49 CFR 1570.301(c)) | None (Warning Notice).
2021SAN0012 | TWIC Access Control (49 CFR 1570.301(c)) | None (Warning Notice).
2021OAK0017 | TWIC Access Control (49 CFR 1570.7(a)(1) and (a)(2)) | None (Warning Notice).
2021CLT0020 | TWIC Access Control (49 CFR 1570.7(a)(1)) | None (Warning Notice).
2017MSY0184 | TWIC Access Control (49 CFR 1570.7(c)) | None (Warning Notice).
2017MSY0189 | TWIC Access Control (49 CFR 1570.7(c)) | None (Warning Notice).
2017OAK0359 | TWIC Access Control (49 CFR 1570.7(c)) | None (Warning Notice).
2018SAN0067 | TWIC Access Control (49 CFR 1570.7(c)) | $250/$250.
2021ALB0009 | TWIC Fraudulent Use (49 CFR 1570.301(a)) | None (Warning Notice).
2021MCO0041 | TWIC Fraudulent Use (49 CFR 1570.301(c) and(d)) | None (Warning Notice).
2021JAX0026 | TWIC Fraudulent Use (49 CFR 1570.301(c)) | None (Warning Notice).
2021JAX0029 | TWIC Fraudulent Use (49 CFR 1570.301(c)) | None (Warning Notice).
2021SAN0018 | TWIC Fraudulent Use (49 CFR 1570.301(c)) | None (Warning Notice).
2021SAN0014 | TWIC Fraudulent Use (49 CFR 1570.301(d)) | None (Warning Notice).
2021SAN0019 | TWIC Fraudulent Use (49 CFR 1570.301(d)) | None (Warning Notice).
2020CLE0170 | TWIC Fraudulent Use (49 CFR 1570.7(a) and (c)) | None (Warning Notice).
2020MIA0077 | TWIC Fraudulent Use (49 CFR 1570.7(a) and (c)) | None (Warning Notice).
2020MIA0149 | TWIC Fraudulent Use (49 CFR 1570.7(a) and (c)) | None (Warning Notice).
2017MSY0190 | TWIC Fraudulent Use (49 CFR 1570.7(a)) | None (Warning Notice).
2017MSY0191 | TWIC Fraudulent Use (49 CFR 1570.7(a)) | None (Warning Notice).
2018BTR0009 | TWIC Fraudulent Use (49 CFR 1570.7(a)) | None (Warning Notice).
2018SAN0173 | TWIC Fraudulent Use (49 CFR 1570.7(a)) | $250/$250.
2018SEA0179 | TWIC Fraudulent Use (49 CFR 1570.7(a)) | $5,000/$2,000.
2020JAX0036 | TWIC Fraudulent Use (49 CFR 1570.7(a)) | None (Warning Notice).
2021OAK0001 | TWIC Fraudulent Use (49 CFR 1570.7(a)) | None (Warning Notice).
2020BOS0069 | TWIC Fraudulent Use (49 CFR 1570.7(b)) | $1,170/$1,170.
2020BWI0038 | TWIC Fraudulent Use (49 CFR 1570.7(c) and (d)) | None (Warning Notice).
2020BWI0042 | TWIC Fraudulent Use (49 CFR 1570.7(c) and (d)) | None (Warning Notice).
2020BWI0044 | TWIC Fraudulent Use (49 CFR 1570.7(c) and (d)) | None (Warning Notice).
2020BWI0058 | TWIC Fraudulent Use (49 CFR 1570.7(c) and (d)) | None (Warning Notice).
2020HOU0029 | TWIC Fraudulent Use (49 CFR 1570.7(c) and (d)) | None (Warning Notice).
2020HOU0077 | TWIC Fraudulent Use (49 CFR 1570.7(c) and (d)) | None (Warning Notice).
2020HOU0079 | TWIC Fraudulent Use (49 CFR 1570.7(c) and (d)) | None (Warning Notice).
2020MCO0110 | TWIC Fraudulent Use (49 CFR 1570.7(c) and (d)) | None (Warning Notice).
2020MCO0111 | TWIC Fraudulent Use (49 CFR 1570.7(c) and (d)) | None (Warning Notice).
2020MCO0156 | TWIC Fraudulent Use (49 CFR 1570.7(c) and (d)) | None (Warning Notice).
2020MCO0162 | TWIC Fraudulent Use (49 CFR 1570.7(c) and (d)) | None (Warning Notice).
2020MCO0180 | TWIC Fraudulent Use (49 CFR 1570.7(c) and (d)) | None (Warning Notice).
2020MCO0181 | TWIC Fraudulent Use (49 CFR 1570.7(c) and (d)) | None (Warning Notice).
2020MCO0182 | TWIC Fraudulent Use (49 CFR 1570.7(c) and (d)) | None (Warning Notice).
2020PDX0027 | TWIC Fraudulent Use (49 CFR 1570.7(c) and (d)) | $1,170/$500.
2020RIC0039 | TWIC Fraudulent Use (49 CFR 1570.7(c) and (d)) | None (Warning Notice).
2020RIC0044 | TWIC Fraudulent Use (49 CFR 1570.7(c) and (d)) | None (Warning Notice).
2020RIC0075 | TWIC Fraudulent Use (49 CFR 1570.7(c) and (d)) | None (Warning Notice).
2019HOU0126 | TWIC Fraudulent Use (49 CFR 1570.7(c)) | $1,140/$500.
2019HOU0149 | TWIC Fraudulent Use (49 CFR 1570.7(c)) | $1,170/$100.
2019JAX0124 | TWIC Fraudulent Use (49 CFR 1570.7(c)) | None (Warning Notice).
2019LAX0258 | TWIC Fraudulent Use (49 CFR 1570.7(c)) | $500/$500.
2019LAX0259 | TWIC Fraudulent Use (49 CFR 1570.7(c)) | None (Warning Notice).
2019MSY0071 | TWIC Fraudulent Use (49 CFR 1570.7(c)) | None (Warning Notice).
2019OAK0146 | TWIC Fraudulent Use (49 CFR 1570.7(c)) | $4,650/$4,650.
2019SAN0064 | TWIC Fraudulent Use (49 CFR 1570.7(c)) | None (Warning Notice).
2019SAN0077 | TWIC Fraudulent Use (49 CFR 1570.7(c)) | $3,420/$3,420.
2020BOS0070 | TWIC Fraudulent Use (49 CFR 1570.7(c)) | None (Warning Notice).
2020BOS0103 | TWIC Fraudulent Use (49 CFR 1570.7(c)) | None (Warning Notice).
2020BWI0071 | TWIC Fraudulent Use (49 CFR 1570.7(c)) | None (Warning Notice).
2020BWI0076 | TWIC Fraudulent Use (49 CFR 1570.7(c)) | None (Warning Notice).
2020CLT0099 | TWIC Fraudulent Use (49 CFR 1570.7(c)) | None (Warning Notice).
2020CLT0177 | TWIC Fraudulent Use (49 CFR 1570.7(c)) | None (Warning Notice).
2020CLT0186 | TWIC Fraudulent Use (49 CFR 1570.7(c)) | None (Warning Notice).
2020CLT0187 | TWIC Fraudulent Use (49 CFR 1570.7(c)) | None (Warning Notice).
2020EWR0039 | TWIC Fraudulent Use (49 CFR 1570.7(c)) | None (Warning Notice).
2020EWR0040 | TWIC Fraudulent Use (49 CFR 1570.7(c)) | None (Warning Notice).
2020EWR0093 | TWIC Fraudulent Use (49 CFR 1570.7(c)) | None (Warning Notice).
2020EWR0102 | TWIC Fraudulent Use (49 CFR 1570.7(c)) | None (Warning Notice).
2020HOU0009 | TWIC Fraudulent Use (49 CFR 1570.7(c)) | $3,500/$2,000.
2020JAX0041 | TWIC Fraudulent Use (49 CFR 1570.7(c)) | $1,170/$1,170.
2020JAX0042 | TWIC Fraudulent Use (49 CFR 1570.7(c)) | $1,170/$1,170.
2020JAX0043 | TWIC Fraudulent Use (49 CFR 1570.7(c)) | None (Warning Notice).
2020JAX0082 | TWIC Fraudulent Use (49 CFR 1570.7(c)) | None (Warning Notice).
2020JAX0111 | TWIC Fraudulent Use (49 CFR 1570.7(c)) | None (Warning Notice).
2020MCO0109 | TWIC Fraudulent Use (49 CFR 1570.7(c)) | None (Warning Notice).
2020MCO0155 | TWIC Fraudulent Use (49 CFR 1570.7(c)) | None (Warning Notice).
2020OAK0045 | TWIC Fraudulent Use (49 CFR 1570.7(c)) | None (Warning Notice).
2020OAK0065 | TWIC Fraudulent Use (49 CFR 1570.7(c)) | None (Warning Notice).
2020OAK0068 | TWIC Fraudulent Use (49 CFR 1570.7(c)) | None (Warning Notice).
2020OAK0069 | TWIC Fraudulent Use (49 CFR 1570.7(c)) | None (Warning Notice).
2020OAK0072 | TWIC Fraudulent Use (49 CFR 1570.7(c)) | None (Warning Notice).
2020OAK0119 | TWIC Fraudulent Use (49 CFR 1570.7(c)) | None (Warning Notice).
2020OAK0131 | TWIC Fraudulent Use (49 CFR 1570.7(c)) | None (Warning Notice).
2020RIC0040 | TWIC Fraudulent Use (49 CFR 1570.7(c)) | None (Warning Notice).
2020RIC0048 | TWIC Fraudulent Use (49 CFR 1570.7(c)) | None (Warning Notice).
2020RIC0050 | TWIC Fraudulent Use (49 CFR 1570.7(c)) | None (Warning Notice).
2020RIC0076 | TWIC Fraudulent Use (49 CFR 1570.7(c)) | None (Warning Notice).
2020SAN0058 | TWIC Fraudulent Use (49 CFR 1570.7(c)) | $800/$800.
2020SAT0052 | TWIC Fraudulent Use (49 CFR 1570.7(c)) | None (Warning Notice).
2020SEA0068 | TWIC Fraudulent Use (49 CFR 1570.7(c)) | None (Warning Notice).
2020SEA0132 | TWIC Fraudulent Use (49 CFR 1570.7(c)) | None (Warning Notice).
2020SEA0171 | TWIC Fraudulent Use (49 CFR 1570.7(c)) | None (Warning Notice).
2020SEA0184 | TWIC Fraudulent Use (49 CFR 1570.7(c)) | None (Warning Notice).
2020STL0134 | TWIC Fraudulent Use (49 CFR 1570.7(c)) | None (Warning Notice).
2021RIC0004 | TWIC Fraudulent Use (49 CFR 1570.7(c)) | None (Warning Notice).
2020CLE0176 | TWIC Fraudulent Use (49 CFR 1570.7(d)) | None (Warning Notice).
2020HOU0068 | TWIC Fraudulent Use (49 CFR 1570.7(d)) | None (Warning Notice).
2020HOU0078 | TWIC Fraudulent Use (49 CFR 1570.7(d)) | None (Warning Notice).
2020MIA0076 | TWIC Fraudulent Use (49 CFR 1570.7(d)) | None (Warning Notice).
2020SEA0067 | TWIC Fraudulent Use (49 CFR 1570.7(d)) | None (Warning Notice).
2020SEA0183 | TWIC Fraudulent Use (49 CFR 1570.7(d)) | None (Warning Notice).
2020SEA0053 | TWIC Inspection of Credential (49 CFR 1570.9(a)) | None (Warning Notice).

[FR Doc. 2021-26534 Filed 12-7-21; 8:45 am]

BILLING CODE 9110-05-P